DEPARTMENT OF COMMERCE

National Oceanic and Atmospheric Administration

[RIN 0648-BD68]

Fisheries of the Caribbean, Gulf of Mexico, and South Atlantic; Amendment 28 to the Fishery Management Plan for the Reef Fish Resources of the Gulf of Mexico

AGENCY: National Marine Fisheries Service (NMFS), National Oceanic and Atmospheric Administration (NOAA), Commerce.

ACTION: Supplemental Notice of Intent (NOI) to prepare a draft environmental impact statement (DEIS); request for comments.

SUMMARY: NMFS, Southeast Region, in collaboration with the Gulf of Mexico Fishery Management Council (Council) intends to prepare a DEIS to describe and analyze management alternatives to be included in Amendment 28 to the Fishery Management Plan (FMP) for the Reef Fish Resources of the Gulf of Mexico (Amendment 28). Actions considered in Amendment 28 were initially limited to alternatives to reallocate Gulf of Mexico (Gulf) red snapper resources between the commercial and recreational sectors. However, NMFS and the Council have since modified the scope of Amendment 28 to consider actions that would revise the recreational accountability measures (AMs) for Gulf red snapper. These actions would establish an annual catch target (ACT) by applying a buffer to the recreational quota and establish recreational quota overage adjustment provisions (paybacks). These additional actions will support management efforts to maintain landings within the recreational quota and mitigate recreational quota overages should they occur. The purpose of this NOI is to solicit public comments on the modified scope of issues to be addressed in the DEIS.

DATES: Written comments on the scope of issues to be addressed in the DEIS must be received by NMFS by June 19, 2014.

ADDRESSES: You may submit comments on Amendment 28 identified by “NOAA-NMFS-2013-0146” by any of the following methods:

• Electronic submissions: Submit electronic comments via the Federal e-Rulemaking Portal: http://www.regulations.gov. Go to www.regulations.gov/#!docketDetail;D=NOAA-NMFS-2013-0146, click the “Comment Now!” icon, complete the required fields, and enter or attach your comments.

• Mail: Submit written comments to Peter Hood, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Peter Hood, Southeast Regional Office, telephone: (727) 824-5305; or email: peter.hood@noaa.gov.

SUPPLEMENTARY INFORMATION: An NOI to prepare a DEIS for Amendment 28 was published in the Federal Register on November 7, 2013 (78 FR 66900) and requested public comment through December 9, 2013. Management alternatives initially considered in Amendment 28 were to reallocate red snapper resources between the commercial and recreational sectors with the purpose of increasing the net benefits and the stability of the red snapper component of the reef fish fishery.

In September 2013, individual commercial fishermen and two commercial fishing interest groups filed a lawsuit challenging the rules that implemented the red snapper quotas for the 2013 fishing year and set the 2013 recreational red snapper fishing season. In March 2014, the U.S. District Court for the District of Columbia (Court) in Guindon v. Pritzker, 2014 WL 1274076 (D.D.C. Mar. 26, 2014) ruled in favor of the plaintiffs, finding, in relevant part, that NMFS failed to require adequate AMs for the recreational sector, failed to prohibit the retention of fish after the recreational quota had been harvested, and failed to use the best scientific information available when determining if the quota had been met.

The Council reviewed the Court's opinion and determined further AMs were needed to improve red snapper management and reduce the probability of exceeding the recreational quota. The Council decided to add AM actions to Amendment 28, including an ACT and quota overage adjustments, but could also consider other AM alternatives. Although the red snapper stock is not undergoing overfishing, it is considered overfished and under a rebuilding plan. Therefore, constraining recreational landings within the recreational quota and mitigating quota overages will aid in the stock recovery.

NMFS, in collaboration with the Council, will develop a DEIS to describe and analyze alternatives to address the management needs described above including the “no action” alternative. In accordance with NOAA's Administrative Order 216-6, Section 5.02(c), Scoping Process, NMFS, in collaboration with the Council, has identified preliminary environmental issues as a means to initiate discussion for scoping purposes only. The public is invited to provide written comments on the preliminary issues, which are identified as actions and alternatives in the Amendment 28 draft options paper and action guide. These preliminary issues may not represent the full range of issues that eventually will be evaluated in the DEIS. A copy of the Amendment 28 action guide is available at http://sero.nmfs.noaa.gov/sustainable_fisheries/gulf_fisheries/reef_fish/index.html.

After the DEIS associated with Amendment 28 is completed, it will be filed with the Environmental Protection Agency (EPA). After filing, the EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

NMFS will announce, through a document published in the Federal Register, all public comment periods on the final amendment, its proposed implementing regulations, and the availability of its associated FEIS. NMFS will consider all public comments received during the Secretarial review period, whether they are on the final amendment, the proposed regulations, or the FEIS, prior to final agency action.

Authority: 16 U.S.C. 1801 et seq.

Dated: May 15, 2014.
Emily H. Menashes,
Acting Director, Office of Sustainable Fisheries, National Marine Fisheries Service.

[FR Doc. 2014-11606 Filed 5-19-14; 8:45 am]

BILLING CODE 3510-22-P